DEPARTMENT OF TRANSPORTATION

Federal Aviation Administration

14 CFR Part 39

[Docket No. FAA-2012-0589; Directorate Identifier 2011-NM-189-AD; Amendment 39-17199; AD 2012-19-04]

RIN 2120-AA64

Airworthiness Directives; Fokker Services B.V. Airplanes

AGENCY: Federal Aviation Administration (FAA), Department of Transportation (DOT).

ACTION: Final rule.

SUMMARY: We are superseding two existing airworthiness directives (ADs) for certain Fokker Services B.V. Model F.28 Mark 0100 airplanes. The first existing AD currently requires removing the actuator from the fuel-balance transfer-valve (FBTV) and installing a locking device on the FBTV. The second existing AD currently requires inspecting to verify that the position indicator of the FBTV is in the closed position and deactivating the fuel-balance transfer-system. This new AD requires installing an FBTV locking device. This AD was prompted by reports that the FBTV was inadvertently reactivated after required de-activation measures were undone. We are issuing this AD to prevent fuel starvation and a consequent double-engine flameout, possibly resulting in a forced landing, damage to the airplane, and injury to occupants.

DATES: This AD becomes effective November 5, 2012.

The Director of the Federal Register approved the incorporation by reference of a certain publication listed in this AD as of November 5, 2012.

The Director of the Federal Register approved the incorporation by reference of a certain other publication, listed in this AD as of April 29, 1996 (61 FR 14014, March 29, 1996).

The Director of the Federal Register approved the incorporation by reference of a certain other publication, listed in this AD as of August 10, 1994 (59 FR 35237, July 11, 1994).

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Tom Rodriguez, Aerospace Engineer, International Branch, ANM-116, Transport Airplane Directorate, FAA, 1601 Lind Avenue SW., Renton, WA 98057-3356; phone: (425) 227-1137; fax: (425) 227-1149.

SUPPLEMENTARY INFORMATION:

Discussion

We issued a notice of proposed rulemaking (NPRM) to amend 14 CFR part 39 to include an AD that would apply to the specified products. That NPRM was published in the Federal Register on June 6, 2012 (77 FR 33332), and proposed to supersede AD 94-14-05, Amendment 39-8957 (59 FR 35237, July 11, 1994); and AD 96-07-06, Amendment 39-9555 (61 FR 14014, March 29, 1996). That NPRM proposed to correct an unsafe condition for the specified products. The MCAI states:

Some Fokker F28 Mark 0100 (Fokker 100) aeroplanes were delivered from the production line with a Fuel-Balance Transfer-System (FBTS) installed. Other Fokker 100 aeroplanes were delivered with only FBTS provisions and for some of those, an option existed for in-service activation of the FBTS, through Fokker Service Bulletin (SB) SBF100-28-021.

The FBTS was designed to be used during maintenance activities to move the Centre of Gravity (CG) forward by transferring fuel from the main tanks to the centre tank through the crossfeed system and a Fuel-Balance Transfer-Valve (FBTV).

In 1993, a dormant failure mode was discovered, which could lead to fuel starvation and consequently to a double engine flame-out, possibly resulting in a forced landing, damage to the aeroplane and injury to occupants. To address and correct this unsafe condition, CAA-NL [Civil Aviation Authority—Netherlands] issued AD BLA 93-160, which required modification of the FBTV (Fokker SBF100-28-029) [which corresponds to FAA AD 94-14-05, Amendment 39-8957 (59 FR 35237, July 11, 1994)], and later BLA 94-146, which required deactivation of the FBTS (Fokker SBF100-28-030) [which corresponds to FAA AD 96-07-06, Amendment 39-9555 (61 FR 14014, March 29, 1996)].

Recently, one operator reported that on two aeroplanes, the FBTS had inadvertently been reactivated. SBF100-28-030 had been accomplished on both aeroplanes but apparently, (some of) the de-activation measures introduced with that SB were later made undone. Subsequent investigation also showed that Fokker SBF100-28-021, containing instructions for activating the FBTS, had inadvertently been left active when SBF100-28-029 and SBF100-28-030 were published. To address this safety concern, Fokker Services have issued SBF100-28-066, which introduces a task to deactivate the FBTS to a greater extent than previously required. At the same time, SBF100-28-021 has been cancelled by its Revision 1.

For the reasons described above, this [European Aviation Safety Agency (EASA)] AD retains the requirements of CAA-NL [airworthiness directives] BLA 93-160 and BLA 94-146, which are superseded, and requires the accomplishment of additional measures to deactivate the FBTS [modify the airplane by installing an FBTV locking device], in accordance with the instructions of Fokker Services SBF100-28-066.

You may obtain further information by examining the MCAI in the AD docket.

Comments

We gave the public the opportunity to participate in developing this AD. We received no comments on the NPRM (77 FR 33332, June 6, 2012) or on the determination of the cost to the public.

Conclusion

We reviewed the available data and determined that air safety and the public interest require adopting the AD as proposed—except for minor editorial changes. We have determined that these minor changes:

• Are consistent with the intent that was proposed in the NPRM (77 FR 33332, June 6, 2012) for correcting the unsafe condition; and

• Do not add any additional burden upon the public than was already proposed in the NPRM (77 FR 33332, June 6, 2012).

Costs of Compliance

We estimate that this AD will affect 2 products of U.S. registry.

The actions that were required by AD 94-14-05, Amendment 39-8957 (59 FR 35237, July 11, 1994), and retained in this AD take about 1 work-hour per product, at an average labor rate of $85 per work hour. Required parts cost about $250 per product. Based on these figures, the estimated cost of the currently required actions is $335 per product.

The actions required by AD 96-07-06, Amendment 39-9555 (61 FR 14014, March 29, 1996), and retained in this AD take about 1 work-hour per product, at an average labor rate of $85 per work hour. Required parts cost about $0 per product. Based on these figures, the estimated cost of the currently required actions is $85 per product.

We also estimate that it will take about 5 work-hours per product to comply with the new basic requirements of this AD. The average labor rate is $85 per work-hour. Required parts will cost about $650 per product. Where the service information lists required parts costs that are covered under warranty, we have assumed that there will be no charge for these parts. As we do not control warranty coverage for affected parties, some parties may incur costs higher than estimated here. Based on these figures, we estimate the cost of this AD to the U.S. operators to be $2,150, or $1,075 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 33332, June 6, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by removing airworthiness directive AD 94-14-05, Amendment 39-8957 (59 FR 35237, July 11, 1994); and AD 96-07-06, Amendment 39-9555 (61 FR 14014, March 29, 1996); and adding the following new AD:

2012-19-04 Fokker Services B.V.: Amendment 39-17199. Docket No. FAA-2012-0589; Directorate Identifier 2012-NM-189-AD.

(a) Effective Date

This airworthiness directive (AD) becomes effective November 5, 2012.

(b) Affected ADs

This AD supersedes AD 94-14-05, Amendment 39-8957 (59 FR 35237, July 11, 1994); and AD 96-07-06, Amendment 39-9555 (61 FR 14014, March 29, 1996).

(c) Applicability

This AD applies to Fokker Services B.V. Model F.28 Mark 0100 airplanes; certificated in any category; serial numbers 11257, 11258, 11261, 11262, 11264, 11265, 11266, 11284, 11285, 11287, 11288, 11290, 11292, 11294, 11296, 11298, 11299, 11301, 11302, 11304, 11305, 11307, 11309, 11311, 11315, 11317, 11319, 11320, 11322, 11336, 11339, 11341 through 11344 inclusive, 11347, 11348, 11350, 11351, 11362, 11363, 11364, 11371, 11374, 11375, 11382, 11383, 11384, 11389, 11390, 11394, 11400, 11401, 11409, 11410, 11420 through 11424 inclusive, 11429, 11430, 11431, 11433, 11441 through 11456 inclusive, 11461, 11462, 11463, 11470 through 11475 inclusive, 11477, 11484, 11485, 11486, 11488, 11489, 11496, 11497, 11500, 11503, 11505, 11511, 11512, 11516, 11517, 11518, and 11527.

(d) Subject

Air Transport Association (ATA) of America Code 28: Fuel.

(e) Reason

This AD was prompted by reports that the fuel-balance transfer-valve (FBTV) was inadvertently reactivated after required de-activation measures were undone. We are issuing this AD to prevent fuel starvation and a consequent double-engine flameout, possibly resulting in a forced landing, damage to the airplane, and injury to occupants.

(f) Compliance

You are responsible for having the actions required by this AD performed within the compliance times specified, unless the actions have already been done.

(g) Retained Installation of a Locking Device for the FBTV

This paragraph restates the requirements of paragraph (a) of AD 94-14-05, Amendment 39-8957 (59 FR 35237, July 11, 1994). For airplanes having serial numbers 11443, 11446 through 11449 inclusive, and 11456: Within 30 days after August 10, 1994 (the effective date of AD 94-14-05), remove the actuator from the FBTV, part number (P/N) 7933141J and install a locking device on the FBTV, in accordance with the Accomplishment Instructions of Fokker Service Bulletin SBF100-28-029, Revision 1, dated November 30, 1993.

(h) Retained Inspection and Deactivation

(1) This paragraph restates the requirements of paragraphs (a) and (b) of AD 96-07-06, Amendment 39-9555 (61 FR 14014, March 29, 1996). For airplanes identified in Fokker Service Bulletin SBF100-28-030, Revision 1, dated December 5, 1994: After April 29, 1996 (the effective date of AD 96-07-06), whenever the fuel balance transfer system (FBTS) is used during maintenance, prior to further flight, perform an inspection to verify that the position indicator of the FBTV is in the closed position, in accordance with Fokker Service Bulletin SBF100-28-030, Revision 1, dated December 5, 1994. The inspection requirements of this paragraph must be accomplished until the deactivation required by paragraph (h)(2) of this AD is accomplished.

(i) If the position indicator is in the closed position, no further action is required by this paragraph.

(ii) If the position indicator is in the open position, close the FBTV, in accordance with the Accomplishment Instructions of Fokker Service Bulletin SBF100-28-030, Revision 1, dated December 5, 1994.

(2) Within 90 days after April 29, 1996 (the effective date of AD 96-07-06, Amendment 39-9555 (61 FR 14014, March 29, 1996)), deactivate the FBTS in accordance with either Part 2 or Part 3, as applicable, of the Accomplishment Instructions of Fokker Service Bulletin SBF100-28-030, Revision 1, dated December 5, 1994. Accomplishment of the deactivation constitutes terminating action for the repetitive inspection requirements of paragraph (h)(1) of this AD.

(i) New Requirements of This AD

Within 12 months after the effective date of this AD, modify the airplane by installing an FBTV locking device, in accordance with the Accomplishment Instructions of Fokker Service Bulletin SBF100-28-066, dated June 30, 2011, which includes the attachments identified in paragraphs (i)(1) through (i)(5) of this AD (* the issue date is not specified on the drawing.)

(1) Fokker Manual Change Notification—Maintenance Documentation MCNM-F100-145, dated June 30, 2011.

(2) Fokker Manual Change Notification—Operational Documentation MCNO-F100-059, dated June 30, 2011.

(3) Fokker Drawing W41190, Sheet 013, Issue P*.

(4) Fokker Drawing W41190, Sheet 014, Issue P*.

(5) Fokker Drawing W41190, Sheet 016, Issue P*.

(j) Prohibited Modification

As of the effective date of this AD, no person may modify any airplane using Fokker Service Bulletin SBF100-28-021, dated September 6, 1991 (specified in European Aviation Safety Agency (EASA) AD 2011-0158, dated August 26, 2011, and is not incorporated by reference in this AD). That service bulletin was cancelled by Fokker Service Bulletin SBF100-28-021, Revision 1, dated June 30, 2011 (not incorporated by reference in this AD).

(k) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Tom Rodriguez, Aerospace Engineer, International Branch, ANM-116, Transport Airplane Directorate, FAA, 1601 Lind Avenue SW., Renton, WA 98057-3356; telephone (425) 227-1137; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(l) Related Information

Refer to MCAI EASA Airworthiness Directive 2011-0158, dated August 26, 2011, and the service information specified in paragraphs (l)(1), (l)(2), and (l)(3) of this AD, for related information.

(1) Fokker Service Bulletin SBF100-28-029, Revision 1, dated November 30, 1993.

(2) Fokker Service Bulletin SBF100-28-030, Revision 1, dated December 5, 1994.

(3) Fokker Service Bulletin SBF100-28-066, dated June 30, 2011, which includes the attachments identified in paragraphs (l)(3)(i) through (l)(3)(v) of this AD (* the issue date is not specified on the drawing).

(i) Fokker Manual Change Notification—Maintenance Documentation MCNM-F100-145, dated June 30, 2011.

(ii) Fokker Manual Change Notification—Operational Documentation MCNO-F100-059, dated June 30, 2011.

(iii) Fokker Drawing W41190, Sheet 013, Issue P*.

(iv) Fokker Drawing W41190, Sheet 014, Issue P*.

(v) Fokker Drawing W41190, Sheet 016, Issue P*.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on November 5, 2012.

(i) Fokker Service Bulletin SBF100-28-066, dated June 30, 2011, which includes the attachments identified in paragraphs (m)(3)(i)(A) through (m)(3)(i)(E) of this AD (* the issue date is not specified on the drawing).

(A) Fokker Manual Change Notification—Maintenance Documentation MCNM-F100-145, dated June 30, 2011.

(B) Fokker Manual Change Notification—Operational Documentation MCNO-F100-059, dated June 30, 2011.

(C) Fokker Drawing W41190, Sheet 013, Issue P*.

(D) Fokker Drawing W41190, Sheet 014, Issue P*.

(E) Fokker Drawing W41190, Sheet 016, Issue P*.

(ii) Reserved.

(4) The following service information was approved for IBR on April 29, 1996 (61 FR 14014, March 29, 1996).

(i) Fokker Service Bulletin SBF100-28-030, Revision 1, dated December 5, 1994. (Pages 1 through 3, 5, 8, and 10 of this document are identified as Revision 1, dated December 5, 1994. Pages 4, 6, 7, and 9 of this document are dated August 28, 1994 (original issue).)

(ii) Reserved.

(5) The following service information was approved for IBR on August 10, 1994 (59 FR 35237, July 11, 1994).

(i) Fokker Service Bulletin SBF100-28-029, Revision 1, dated November 30, 1993. (Pages 1 through 3 of this document are identified as Revision 1, dated November 30, 1993. Pages 4 through 7 of this document are dated November 10, 1993 (original issue).)

(ii) Reserved.

(6) For service information identified in this AD, contact Fokker Services B.V., Technical Services Dept., P.O. Box 231, 2150 AE Nieuw-Vennep, the Netherlands; telephone +31 (0)252-627-350; fax +31 (0)252-627-211; email technicalservices.fokkerservices@stork.com; Internet http://www.myfokkerfleet.com.

(7) You may review copies of the service information at the FAA, Transport Airplane Directorate, 1601 Lind Avenue SW., Renton, WA. For information on the availability of this material at the FAA, call 425-227-1221.

(8) You may view this service information that is incorporated by reference at the National Archives and Records Administration (NARA). For information on the availability of this material at NARA, call 202-741-6030, or go to: http://www.archives.gov/federal-register/cfr/ibr-locations.html.

Issued in Renton, Washington, on September 11, 2012.
Ali Bahrami,
Manager, Transport Airplane Directorate, Aircraft Certification Service.

[FR Doc. 2012-23052 Filed 9-28-12; 8:45 am]

BILLING CODE 4910-13-P